ENVIRONMENTAL PROTECTION AGENCY

[FRL-8461-6]

Proposed CERCLA Section 122(g) Administrative Agreement for de minimis Settlement for the Consolidated Iron and Metal Co. Superfund Site, City of Newburgh, Orange County, NY

AGENCY: Environmental Protection Agency.

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of a proposed de minimis administrative agreement pursuant to Section 122(g) of CERCLA, 42 U.S.C. 9622(g), between EPA and nine (9) settling parties pertaining to the Consolidated Iron and Metal Co. Superfund Site (“Site”) located in the City of Newburgh, Orange County, New York. The settlement requires specified individual payments by each settling party to the EPA Hazardous Substance Superfund Consolidated Iron and Metal Co. Superfund Site Special Account, which combined total $304,916.16. Each settling party's individual settlement amount is considered to be that party's fair share of cleanup costs incurred and anticipated to be incurred in the future, plus a “premium” that accounts for, among other things, uncertainties associated with the costs of that future work at the Site. The settlement includes a covenant not to sue pursuant to Sections 106 and 107 of CERCLA, 42 U.S.C. 9606 and 9607, relating to the Site, subject to limited reservations, and protection from contribution actions or claims as provided by Sections 113(f)(2) and 122(g)(5) of CERCLA, 42 U.S.C. 9613(f)(2) and 9622(g)(5). For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

DATES: Comments must be submitted on or before September 27, 2007.

ADDRESSES: The proposed settlement is available for public inspection at EPA Region 2 offices at 290 Broadway, New York, New York 10007-1866. Comments should reference the Consolidated Iron and Metal Co. Superfund Site, Index No. CERCLA-02-2007-2001. To request a copy of the proposed settlement agreement, please contact the individual identified below.

FOR FURTHER INFORMATION CONTACT: Carol Y. Berns, Assistant Regional Counsel, New York/Caribbean Superfund Branch, Office of Regional Counsel, U.S. Environmental Protection Agency, 17th Floor, 290 Broadway, New York, New York 10007-1866. Telephone: 212-637-3177.

Dated: August 15, 2007.
William McCabe,
Acting Director, Emergency and Remedial Response Division, EPA, Region 2.

[FR Doc. E7-16999 Filed 8-27-07; 8:45 am]

BILLING CODE 6560-50-P